DEPARTMENT OF HEALTH AND HUMAN SERVICES

Centers for Disease Control and Prevention

[Program Announcement 02140]

Global Health Promotion and Health Education Initiatives Related to Chronic Disease Prevention; Notice of Award of Funds

A. Purpose

The Centers for Disease Control and Prevention (CDC) announces the availability of funds for fiscal year (FY) 2002 for a cooperative agreement for Global Health Promotion and Health Education Initiatives Related to Chronic Disease Prevention.

The purpose of this program announcement is to promote research, health promotion, and dissemination of expertise and information related to non-communicable disease, chronic diseases; mental health problems; and leading causes of death, disease and disability that can be significantly reduced through effective public health policies and community and school health programs.

The International Union for Health Promotion and Education (IUHPE) will accomplish the purpose of this program announcement by functioning as a coordinating agency for a comprehensive global health promotion and health education effort, related to non-communicable disease prevention through the development of public health policies, dissemination of evidence-based knowledge and practical experience, capacity building in non-communicable disease surveillance systems and prevention program development.

B. Eligible Applicant

Assistance will be provided only to the IUHPE. No other applications are solicited.

The IUHPE is the only international health promotion organization that can conduct the activities in this program announcement. IUHPE is the only international organization with independent professional association with more than 2,000 members in over 90 countries. IUHPE has seven Global Regional Offices located in Australia, Japan, India, Kenya, Puerto Rico, USA, and Spain.

The IUHPE will accomplish the purpose of this program announcement by functioning as a coordinating agency for a comprehensive global health promotion and health education effort related to non-communicable disease prevention through the development of public health policies, dissemination of evidence-based knowledge and practical experience, capacity building in non-communicable disease surveillance systems and prevention program development.

IUHPE is the only qualified international health promotion organization dedicated to improving the health of the people of the world through education, community action and the development of public policies. IUHPE is uniquely qualified to conduct and coordinate research and programmatic activities under this program announcement because:

1. IUHPE has 50 years experience improving the health of the people of the world through education, community action and the development of public policies.

2. IUHPE is an independent professional association with more than 2,000 members in over 90 countries. IUHPE has seven Global Regional Offices located in Australia, Japan, India, Kenya, Puerto Rico, USA, and Spain, IUHPE truly understands international health and is aware of the public health issues impacting every corner of the world.

3. IUHPE is uniquely qualified to conduct and coordinate policy and programmatic initiatives that have specific relevance to the objectives of this program announcement.

Note: Title 2 of the United States Code section 1611 states that an organization described in section 501(c)(4) of the Internal Revenue Code that engages in lobbying activities is not eligible to receive Federal funds constituting an award, grant or loan.

C. Availability of Funds

Approximately $ 165,000 is available in FY 2002 to fund one award. It is expected that the award will begin on or about June 30, 2002, and will be made for a 12-month budget period within a project period of up to five years. Funding estimate for specific program components listed below may vary and are subject to change.

1. Global Health Promotion, Health Education: Approximately $60,000 is available in FY 2002 to expand IUHPE's Global Program on Health Promotion Effectiveness to areas of the world where English publication bias has failed to demonstrate the impact of effective health promotion evaluation such as Latin American Regional Office and other appropriate organizations.

2. Nutrition and Physical Activity: Approximately $70,000 is available in FY 2002 to support activities to strengthen global and regional physical activity health promotion programs within the context of public health. A demonstration project in a region such as the Western Pacific (including but not limited to Fiji, Samoa, the Marshal Islands and the Federated States of Micronesia) may be supported.

3. School Health: Approximately $10,000 is available in FY 2002 to support activities to strengthen international, national and local support of effective school health programs.

4. Community Health: Approximately $25,000 is available in FY 2002 to support activities to strengthen international, national, and local support of effective community health programs.

5. Tobacco Control and Prevention: Based on availability of funding, money will be made available in FY 2003 for tobacco control and prevention activities.

Continuation awards within an approved project period will be made on the basis of satisfactory progress as evidenced by required reports and the availability of funds.

Use of Funds

1. All requests for funds, including the budget contained in the application, shall be stated in U.S. dollars. Once an award is made, the Department of Health and Human Services (DHHS) will not compensate foreign grantees for currency exchange fluctuations through the issuance of supplemental awards.

2. Funds may be used to support personnel, supplies, and services directly related to project activities that are consistent with the scope of the cooperative agreement. Equipment may be purchased if deemed necessary to accomplish program objectives, however, CDC officials must be notified in advance of such purchases.

3. The costs that are generally allowable in grants to domestic organizations are likewise allowable to foreign institutions and international organizations, with the following exception: Indirect Costs: Indirect costs will not be paid (either directly or through a sub-award) to organizations located outside the territorial limits of the United States or to international organizations regardless of their location.

4. Funds provided under this program announcement can not be used to supplant existing program funds, to provide personal health services, medications, patient rehabilitation or to support facilities construction or renovation.

D. Where To Obtain Additional Information

This and other CDC announcements can be found on the CDC home page Internet address— http://www.cdc.gov. Click on “Funding” then “Grants and Cooperative Agreements.”

Business management technical assistance may be obtained from: Cynthia Collins, Grants Management Specialist, International/Territories Acquisition and Assistance Branch, Procurement and Grants Office, Program Announcement 02140, Centers for Disease Control and Prevention (CDC), 2920 Brandywine Rd., Room 3000, Atlanta, GA 30341-5539, Telephone: (770) 488-2757, E-mail address: coc9@cd.gov.

Program technical assistance may be obtained from:

Project 1: Global Health Promotion, Health Education may be obtained from: Mary Hall, Program Analyst, Global Health Promotion, Office of the Director, National Center for Chronic Disease Prevention and Health Promotion, Centers for Disease Control and Prevention (CDC), Mail Stop K-40, 4770 Buford Highway, NE., Atlanta, GA 30341, Telephone: 770-488-5644, E-mail: moh4@cdc.gov.

Project 2: Nutrition and Physical Activity may be obtained from: Michael Pratt, Medical Officer, Division of Nutrition and Physical Activity, National Center for Chronic Disease Prevention and Health Promotion, Centers for Disease Control and Prevention (CDC), Mail Stop K-46, 4770 Buford Highway, NE., Atlanta, GA 30066, Telephone: 770-488-5692, E-mail: mxp4@cdc.gov.

Project 3: School Health may be obtained from: Paula Morgan, Program Analyst, Division of Adolescent and School Health, National Center for Chronic Disease Prevention and Health Promotion, Centers for Disease Control and Prevention (CDC), Mail Stop K-29, 4770 Buford Highway, NE., Atlanta, GA 30066 Telephone: 770-488-6107, E-mail: pnm3@cdc.gov.

Project 4: Community Health may be obtained from: Mike Waller, Deputy Director, Division of Adult and Community Health, National Center for Chronic Disease Prevention and Health Promotion, Centers for Disease Control and Prevention (CDC), Mail Stop K-45, 4770 Buford Highway, NE., Atlanta, GA 30066, Telephone: 770-488-5264, E-mail: mnw1@cdc.gov.

Project 5: Tobacco Control and Prevention may be obtained from: Michelle Roland, Office of Smoking and Health, National Center for Chronic Disease Prevention and Health Promotion, Centers for Disease Control and Prevention (CDC), Mail Stop K-50, 4770 Buford Highway, NE., Atlanta, GA 30066, Telephone: 770-488-5582, E-mail: izr0@cdc.gov.

Dated: October 9, 2002.
Edward J. Schultz,
Deputy Director, Procurement and Grants Office, Center for Disease Control and Prevention.

[FR Doc. 02-26532 Filed 10-17-02; 8:45 am]

BILLING CODE 4163-18-P